DEPARTMENT OF ENERGY

Federal Energy Regulatory Commission

[Docket No. RP00-260-000]

Texas Gas Transmission Corporation; Notice of Settlement Conference

January 9, 2001.

Take notice that an informal settlement conference will be convened in this procedure at 10:00 am on Tuesday, January 16 and possibly continuing to January 17, 2001, at the offices of the Federal Energy Regulatory Commission, 888 First Street, NE., Washington, DC 20426, for the purpose of discussing the settlement of issues in the proceeding.

Any party, as defined by 18 CFR 385.102(c), or any participant as defined by 18 CFR 385.102(b), is invited to attend. Persons wishing to become a party must move to intervene and receive intervenor status pursuant to the Commission's regulations (18 CFR 385.214).

For additional information, contact William J. Collins at (202) 208-0248.

David P. Boergers,
Secretary.

[FR Doc. 01-1148 Filed 1-12-01; 8:45 am]

BILLING CODE 6717-01-M